DEPARTMENT OF THE INTERIOR

National Park Service

Draft General Management Plan and Environmental Impact Statement, Governors Island National Monument, New York, NY

AGENCY: National Park Service, Department of the Interior.

ACTION: Notice of availability.

SUMMARY: Pursuant to section 102(2)(C) of the National Environmental Policy Act of 1969 (Pub. L. 91-190, as amended), the National Park Service announces the availability of the Draft General Management Plan and Environmental Impact Statement for Governors Island National Monument, New York.

Consistent with National Park Service laws, regulations, and policies, and the purpose of the National Monument, the Draft GMP/EIS describes and analyzes four alternatives (A-D) to guide the management of the Monument over the next 15 to 20 years. The alternatives incorporate various management prescriptions to ensure protection, access and enjoyment of the park's resources. Alternative A is a no action alternative. Alternative D is the National Park Service's preferred alternative. Alternative D proposes the National Monument be developed as a Harbor Center with partners as a hub of activities and a jumping off point for visitors to explore New York Harbor. The Draft GMP/EIS evaluates potential environmental consequences of implementing the alternatives. Impact topics include the cultural, natural, and socioeconomic environments. This notice also announces that a public meeting will be held to solicit comments on the Draft GMP/EIS during the public review period. The date, time and location will be announced on the park's Web site http://www.nps.gov/gois, in local papers and can also be obtained by calling 212.825.4162.

DATES: There are several ways to view the document, which will be publicly available on or about October 15, 2007:

• An electronic version of the document will be available for public review and comment on the National Park Service Planning, Environment and Public Comment (PEPC) Web site at http://parkplanning.nps.gov.

• Downloadable PDF from the park's Web site http://www.nps.gov/gois.

• Printed copies (these are limited in quantity) and CDs can be requested by contacting the park at 212.825.4162.

The National Park Service will accept comments on the Draft General Management Plan and Environmental Impact Statement from the public for a period of 60 days following publication of the Environmental Protection Agency's Notice of Availability in the Federal Register. Interested persons may check the park Web site at http://www.nps.gov/gois for date, time, and place(s) of public meetings to be conducted by the National Park Service, or by calling 212.825.4162.

ADDRESSES: The document will be available for public review and comment online at http://parkplanning.nps.gov, and can be viewed at the following locations:

Mid-Manhattan Library, 455 5th Avenue, New York, NY 10016.

Science, Industry and Business Library, 188 Madison Avenue, New York, NY 10016.

New Amsterdam Branch Library, 9 Murray Street, New York, NY 10007.

Bronx Library Center, 310 East Kingsbridge Road, New York, NY 10458.

St. George Library Center, 5 Central Avenue, Staten Island, NY 10301.

Business Library, 280 Cadman Plaza West at Tillary St., Brooklyn, NY 11201.

Carroll Gardens Library, 396 Clinton St. at Union St., Brooklyn, NY 11231.

Central Library, Grand Army Plaza, Brooklyn, NY 11238.

Red Hook Library, 7 Wolcott St. at Dwight St., Brooklyn, NY 11231.

Central Library, 89-11 Merrick Boulevard, Jamaica, NY 11432.

Flushing Library, 41-17 Main Street, Flushing, NY 11355.

Jersey City Public Library, Documents Department, 472 Jersey Ave., Jersey City, NJ 07302.

Newark Public Library, 5 Washington St., P.O. Box 0630, Newark, NJ 07101-0630.

New Jersey State Library, U.S. Documents, 185 W. State St., P.O. Box 520, Trenton, NJ 08625-0520.

If you wish to comment, you may submit your comments by any one of several methods. You may mail comments to Superintendent Linda Neal, Governors Island National Monument, Battery Maritime Building, Slip 7, 10 South Street, New York, NY 10004. The preferred method of comment is via the Internet at http://parkplanning.nps.gov. You may also fax your comments to 212.825.4161. Before including your address, phone number, e-mail address, or other personal identifying information in your comment, you should be aware that your entire comment—including your personal identifying information—may be made publicly available at any time. While you can ask us in your comment to withhold your personal identifying information from public review, we cannot guarantee that we will be able to do so.

SUPPLEMENTARY INFORMATION: For over two centuries, Governors Island has played a vital role in the defense and development of New York City. The island's military history begins with the American Revolution and culminates with the U.S. Coast Guard's departure in 1996. In 1985 the northern 121 acres of the island were designated a National Historic Landmark District. Castle Williams and Fort Jay, within the district, are among the best remaining examples of early American coastal fortifications.

On January 19, 2001, President William J. Clinton established the Governors Island National Monument by Presidential Proclamation 7402. On February 7, 2003, President George W. Bush issued Proclamation 7647, which re-established the monument and clarified its status. The Draft General Management Plan (GMP) sets forth alternative visions (management alternatives) for the development and operation of Governors Island National Monument. This plan is the product of a process that integrates the aspirations of the public with the unique capabilities of the NPS to provide for the preservation and public enjoyment of the National Monument over the next 20 years.

Dated: December 11, 2007.
Dennis R. Reidenbach,
Regional Director, Northeast Region, National Park Service.

[FR Doc. E7-24831 Filed 12-20-07; 8:45 am]

BILLING CODE 4312-14-P